ENVIRONMENTAL PROTECTION AGENCY

40 CFR Part 52

[EPA-R01-OAR-2019-0695; FRL-10005-36-Region 1]

Air Plan Approval; Massachusetts; Infrastructure State Implementation Plan Requirements for the 2015 Ozone Standard

Correction

In Rule document 2020-03203, appearing on pages 13748-13755, in the issue of Tuesday, March 10, 2020, make the following correction:

This document was inadvertently published and is hereby withdrawn.

[FR Doc. C1-2020-03203 Filed 3-16-20; 8:45 am]

BILLING CODE 1301-00-D